DEPARTMENT OF DEFENSE

Office of the Secretary

[Docket ID: DOD-2010-OS-0059]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: This proposed action would be effective without further notice on June 7, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington DC 20301-1155.

The proposed system report, as required by 5 U.S.C. 552a(r) of the Privacy Act of 1974, as amended, was submitted on April 26, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: May 3, 2010.
Mitchell S. Bryman,
Alternate OSD Federal Register Liaison Officer, Department of Defense.

DHA 20 DoD

SYSTEM NAME:

Department of Defense Suicide Event Report (DoDSER) System.

SYSTEM LOCATION:

Fort Detrick Network Enterprise Center (NEC), 1422 Sultan Drive, Fort Detrick, MD 21702-5020.

CATEGORIES OF INDIVIDUALS COVERED BY THE SYSTEM:

Department of Defense active and reserve military personnel (Air Force, Army, Navy, Marines), National Guard with reportable suicide and self-harm behaviors (to include suicide attempts, self harm behaviors, and suicidal ideation). All other DoD active and reserve military personnel records collected without evidence of reportable suicide and self-harm behaviors will exist as a de-identified control group, and are not retrievable.

CATEGORIES OF RECORDS IN THE SYSTEM:

Type of suicide event (non-fatal suicide events), event details, location of event, residence at time of event, circumstance of death, psychological, social history, behavioral, economic, education/training history, name, Social Security Number (SSN), date of birth, gender, race/ethnic group, marital status, rank/pay grade, military service, military status, job title, service duty specialty code, duty environment/status, Unit Identification Code (UIC), permanent duty station, the major command of the permanent duty station, temporary duty station (if applicable), residence address, deployment history, use of military helping services, information regarding the individual's past military experience, medical history, medical facility, unit or military treatment facility where suicide was attempted, behavioral health provider information and form completer information.

AUTHORITY FOR MAINTENANCE OF THE SYSTEM:

10 U.S.C. 136, Under Secretary of Defense for Personnel and Readiness; 10 U.S.C. 8013, Secretary of the Air Force; 10 U.S.C. 5013, Secretary of the Navy; 10 U.S.C. 3013, Secretary of the Army; 10 U.S.C. chapter 55, Medical and Dental Care; 29 CFR part 1960, Occupational Illness/Injury Reporting Guidelines for Federal Agencies; 45 CFR parts 160 and 164, Health Insurance Portability and Accountability Act, General Administrative Requirements and Privacy and Security Rules; DoD 6490.02, Comprehensive Health Surveillance; AR 600-63, Army Health Promotion, Rapid Action Revision 20 Sep 09, Paragraph 4-4 Suicide Prevention and Surveillance; OPNAV Instruction 1720.4A, Suicide Prevention Program, 5.d, Reporting; AFI 44-154, Suicide and Violence Prevention Education and Training; AFPAM 44-160, The Air Force Suicide Prevention Program, XI, Epidemiological Database and Surveillance System; and E.O. 9397 (SSN), as amended.

PURPOSE(S):

This data system will provide integrated enterprise and survey data to be used for direct reporting of suicide events and ongoing population-based health surveillance activities. These surveillance activities include the systematic collection, analysis, interpretation, and reporting of outcome-specific data for use in planning, implementation, evaluation, and prevention of suicide behaviors within the Department of Defense. Data is collected on individuals with reportable suicide and self-harm behaviors (to include suicide attempts, self harm behaviors, and suicidal ideation). All other DoD active and reserve military personnel records collected without evidence of reportable suicide and self-harm behaviors will exist as a control group. Records are integrated from enterprise systems and created and revised by civilian and military personnel in the performance of their duties.

Routine uses of records maintained in the system, including categories of users and the purposes of such uses: In addition to those disclosures generally permitted under 5 U.S.C. 552a(b) of the Privacy Act of 1974, these records, or information contained therein, may specifically be disclosed outside the DoD as a routine use pursuant to 5 U.S.C. 552a(b)(3) as follows:

Statistical summary data with no personally identifiable information may be provided to Federal, State, and local governments for health surveillance and research. The DoD “Blanket Routine Uses” published at the beginning of the Office of the Secretary of Defense compilation of record system notices apply to this system, except as stipulated in “Notes” below.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. This statute takes precedence over the Privacy Act of 1974 concerning accessibility of such records except to the individual to whom the record pertains.

Note: This system of records contains individually identifiable health information. The DoD Health Information Privacy Regulation (DoD 6025.18-R) issued pursuant to the Health Insurance Portability and Accountability Act of 1996 applies to most such health information. DoD 6025.18-R may place additional procedural requirements on the uses and disclosures of such information beyond those found in the Privacy Act of 1974 or mentioned in this system of records notice.

POLICIES AND PRACTICES FOR STORING, RETRIEVING, ACCESSING, RETAINING, AND DISPOSING OF RECORDS IN THE SYSTEM:

STORAGE:

Electronic storage media.

RETRIEVABILITY:

By individual's name and/or Social Security Number (SSN). After 180 days, records are not retrievable. Control group records are never retrievable.

SAFEGUARDS:

Records are maintained in a controlled facility. Physical entry is restricted by the use of locks, guards, and is accessible only to authorized personnel. Access to identified records is limited by role-based access controls (RBAC) to those individuals responsible for creating and updating the records and who are properly screened and responsible for servicing the record in performance of their official duties. Record retrieval from the system is limited to aggregated data and access is further restricted by Common Access Cards and passwords that are changed periodically. Control group data is not retrievable.

All personnel with authorized access to the system must have appropriate Information Assurance training, Privacy Act training, and Health Insurance Portability and Accountability Act training. All access to records is tracked by electronic audit logs. Audit logs are always on and they are archived for historical review and tracking.

RETENTION AND DISPOSAL:

Disposition pending (until the National Archives and Records Administration approves retention and disposal schedule, records will be treated as permanent).

SYSTEM MANAGER(S) AND ADDRESS:

Dr. Gregory A. Gahm, Director, National Center for Telehealth and Technology (T2) Defense Centers of Excellence, 9933 West Hayes Street, OMAMC, Joint Base Lewis-McChord, Tacoma, WA 98431-1100.

NOTIFICATION PROCEDURE:

Individuals seeking to determine whether information about themselves is contained in this system of records should address written inquiries to Director, National Center for Telehealth & Technology (T2) Defense Centers of Excellence, 9933 West Hayes Street, OMAMC, Joint Base Lewis-McChord, Tacoma, WA 98431-1100.

Requests should include individual's Social Security Number (SSN), date of birth, and current address.

After 180 days, records are not retrievable. Control group records are never retrievable.

RECORD ACCESS PROCEDURES:

Individuals seeking to access records about themselves contained in this system of records should address written inquiries to TRICARE Management Activity, Freedom of Information Action Officer, 16401 East Centretech Parkway, Aurora, CO 80011-9066.

Requests should include individual's Social Security Number (SSN), date of birth, and current address.

After 180 days, records are not retrievable. Control group records are never retrievable.

CONTESTING RECORD PROCEDURES:

The rules for accessing records, for contesting contents and appealing initial agency determinations are published in Office of the Secretary of Defense Administrative instruction 81; 32 CFR part 311; or may be obtained from the system manager.

RECORD SOURCE CATEGORIES:

Medical and behavioral health records; pre- and post-deployment screening records, family advocacy records; personnel records; responsible investigative agency records; court martial records; records related to manner of death, such as casualty reports; toxicology/lab reports; pathology/autopsy reports; suicide notes; interviews with coworkers/supervisors; responsible investigative agencies; involved professionals such as physicians, behavioral health counselors, chaplains, military police, family service personnel; family members; and Defense Manpower Data Center (DMDC).

EXEMPTIONS CLAIMED FOR THE SYSTEM:

None.

[FR Doc. 2010-10671 Filed 5-5-10; 8:45 am]

BILLING CODE 5001-06-P